DEPARTMENT OF TRANSPORTATION

Federal Highway Administration

[Docket No. FHWA-2022-0018]

Agency Information Collection Activities: Request for Comments for a New Information Collection

AGENCY: Federal Highway Administration (FHWA), DOT.

ACTION: Notice and request for comments.

SUMMARY: The FHWA has forwarded the information collection request described in this notice to the Office of Management and Budget (OMB) for approval of a new (periodic) information collection. We published a Federal Register Notice with a 60-day public comment period on this information collection on March 17, 2022. We are required to publish this notice in the Federal Register by the Paperwork Reduction Act of 1995.

DATES: Please submit comments by July 14, 2022.

ADDRESSES: You may submit comments identified by DOT Docket ID FHWA 2022-0018 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Kenneth Petty, Office of Planning (HEPP-1), 202-366-6654, and Spencer Stevens, Office of Planning (HEPP-20), 202-366-6221, Federal Highway Administration, Department of Transportation, 1200 New Jersey Avenue SE, Washington, DC 20590. Office hours are from 8 a.m. to 5 p.m., Monday through Friday, except Federal holidays.

SUPPLEMENTARY INFORMATION: Title: Survey of Metropolitan Planning Organizations and State Departments of Transportation Regarding Practices for Incorporating Equity and Meaningful Public Involvement in Transportation Planning and Project Decision-Making.

Background: The U.S. Department of Transportation (DOT, or “the Department”) is committed to pursuing a comprehensive approach to advancing equity for all. In response to Executive Order 13985: Advancing Racial Equity and Support for Underserved Communities through the Federal Government (86 FR 7009), DOT is working to expand access and opportunity to all communities while focusing on underserved, overburdened, and disadvantaged communities.

One focus area for DOT relates to the Department's programmatic enforcement of Title VI of the Civil Rights Act (DOT Order 1000.12C), including emphasizing agency review of the potential discriminatory impacts of plans, investment programs, and projects to prevent disparate impacts on protected classes, and empower communities, including limited English proficient communities, in transportation decision-making (49 CFR 21.5, 21.7, 21.9 and 28 CFR 406).

FHWA plans to conduct a survey of all State departments of transportation (State DOTs) and metropolitan planning organizations (MPOs) to better understand how these agencies consider equity and comply with Title VI in transportation planning and programming activities. This will include questions about how each State DOT or MPO is using quantitative data or tools to analyze equity factors for transportation plans and investment programs, as well as how each agency provides a meaningful and representative role to members of all communities, including underserved and limited English proficient communities, in shaping these plans and programs (28 CFR 407).

Information from the survey will be used to inform future research products and capacity-building activities for State DOTs and MPOs, to help them improve practices related to equity and meaningful public involvement in transportation planning and programming. Survey responses may also inform future revisions to existing guidance, or the development of new guidance, to DOT funding recipients on meeting the requirements of Title VI of the Civil Rights Act, the National Environmental Policy Act, transportation planning and programming, or other legal or regulatory requirements that relate to transportation equity and public involvement.

FHWA plans to conduct the survey on a voluntary-response basis, utilizing an electronic survey platform. This is planned as a one-time information collection, and FHWA estimates that the survey will take approximately one hour to complete. The survey will consist of both multiple-choice and short-answer question formats.

Respondents: 52 State DOTs and approximately 405 MPOs.

Frequency: Once.

Estimated Average Burden per Response: Approximately 60 minutes per respondent.

Estimated Total Annual Burden Hours: Approximately 457 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; 23 U.S.C. 134 and 135; and 23 CFR Chapter 1, Subchapter E, Part 450.

Issued On: June 9, 2022.
Michael Howell,
Information Collection Officer.

[FR Doc. 2022-12769 Filed 6-13-22; 8:45 am]

BILLING CODE 4910-22-P